DEPARTMENT OF HEALTH AND HUMAN SERVICES

Administration for Children and Families

Notice of the Award of a Single-Source Grant to The WorkPlace, Inc., in Bridgeport, CT

AGENCY: Office of Family Assistance, ACF, HHS.

ACTION: Award of a Single-source Grant to The WorkPlace, Inc., a local workforce investment board located in Bridgeport, CT.

CFDA Number: 93.093

Statutory Authority: Section 2008(a) of Title XX of the Social Security Act, as amended by Section 5507 of the Affordable Care Act (Pub. L. No. 111-148).

SUMMARY: The Administration for Children and Families (ACF), Office of Family Assistance (OFA), Health Profession Opportunity Grants (HPOG) program announces the award of a single-source grant (cooperative agreement) to The WorkPlace, Inc. a local, non-profit workforce investment board located in Bridgeport, CT. Award funds will support a program to provide education and training to Temporary Assistance to Needy Families (TANF) recipients, and other low-income individuals, for occupations in the health care field that pay well and are expected to either experience labor shortages or be in high demand.

The city of Bridgeport, CT, faces high levels of unemployment. The WorkPlace, Inc., proposes working with numerous community partners to coordinate referrals, conduct assessments, and provide remedial and life skills training, supportive services, and occupational skills training.

If performance by the grantee is deemed satisfactory and funds are available, the grantee may be awarded future funding in the form of annual noncompetitive continuation grants.

DATES: The project period for the award is September 30, 2011-September 29, 2012.

FOR FURTHER INFORMATION CONTACT: Stan Koutstaal, Program Manager, Office of Family Assistance, 370 L'Enfant Promenade, SW., Washington, DC 20447. Telephone: 202-401-5457; E-mail: stanley.koutstaal@acf.hhs.gov.

Dated: September 26, 2011.
Earl S. Johnson,
Director, Office of Family Assistance.

[FR Doc. 2011-27067 Filed 10-18-11; 8:45 am]

BILLING CODE 4184-35-P